DEPARTMENT OF ENERGY

Fusion Energy Sciences Advisory Committee

AGENCY: Office of Science, Department of Energy.

ACTION: Notice of open meeting.

SUMMARY: This notice announces a meeting of the Fusion Energy Sciences Advisory Committee (FESAC). The Federal Advisory Committee Act (Pub. L. 92-463, 86 Stat. 770) requires that public notice of these meetings be announced in the Federal Register.

DATES: Tuesday, February 28, 2012, 9 a.m.-5:45 p.m. and Wednesday, February 29, 2012, 9 a.m.-12 p.m.

ADDRESSES: Doubletree Bethesda Hotel and Executive Meeting Center, 8120 Wisconsin Avenue Bethesda, Maryland 20814.

FOR FURTHER INFORMATION CONTACT:

Edmund J. Synakowski, Designated Federal Officer, Office of Fusion Energy Sciences; U.S. Department of Energy; 1000 Independence Avenue SW., Washington, DC 20585-1290; Telephone: (301) 903-4941.

SUPPLEMENTARY INFORMATION:

Purpose of the Meeting: To complete the charge given to the Committee in the letter from the Director, Office of Science, dated July 22, 2011, to respond to the following questions:

1. What areas of research on new international facilities provide compelling scientific opportunities for US researchers over the next 10-20 years?

2. What research modes would best facilitate international research collaborations in plasma and fusion sciences?

3. What areas of research in materials science and technology provide compelling opportunities for US researchers in the near term and in the ITER era?

Tentative Agenda

February 28, 2012, 9 a.m.-5:45 p.m.

• DOE/SC perspective and FY13 Congressional Budget Request.

• FES perspective and FY 2013 Congressional Budget Request for FES.

• Briefing on the Chinese Fusion Program.

• Basic Research Directions using the National Ignition Facility.

• Status of ITER Project.

• Report from the Subcommittee dealing with opportunities for collaborations on new tokamaks and stellarators overseas AND research modes that best facilitate international collaborations in plasma and fusion science.

February 29, 2012, 9 a.m.-12 p.m.

• Report from the Subcommittee dealing with materials science and technology research opportunities.

• Public Comments.

Note: The FESAC meeting will be broadcast live on the Internet. You may find out how to access this broadcast by going to the following site prior to the start of the meeting. A video record of the meeting, including the presentations that are made will be archived at this Web site after the meeting ends: http://doe.granicus.com/ViewPublisher.php?view_id=3.

Public Participation: The meeting is open to the public. If you would like to file a written statement with the Committee, you may do so either before or after the meeting. If you would like to make oral statements regarding any of the items on the agenda, you should contact Dr. Ed Synakowski at (301) 903-8584 (fax) or Ed.synakowski@science.doe.gov (email). Reasonable provision will be made to include the scheduled oral statements during the public comments time on the agenda. The Chairperson of the Committee will conduct the meeting to facilitate the orderly conduct of business. Public comment will follow the 10-minute rule.

Minutes: The minutes of the meeting will be available for public review and copying within 30 days on the Fusion Energy Sciences Advisory Committee Web site at: http://www.science.doe.gov/ofes/fesac.shtml.

Issued at Washington, DC, on December 29, 2011.
LaTanya R. Butler,
Acting Deputy Committee Management Officer.

[FR Doc. 2011-33801 Filed 1-4-12; 8:45 am]

BILLING CODE 6450-01-P